DEPARTMENT OF COMMERCE

National Oceanic and Atmospheric Administration

Proposed Information Collection; Comment Request; Coastal Household Telephone Survey

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 1, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Anjunell Lewis, (301) 427-8145 or Anjunell.Lewis@NOAA.gov.

SUPPLEMENTARY INFORMATION:

I. Abstract

This request is for a new information collection.

Marine recreational anglers are surveyed for catch and effort data, fish biology data, and angler socioeconomic characteristics. These data are required to carry out provisions of the Magnuson-Stevens Fishery Conservation and Management Act (16 U.S.C. 1801 et seq.), as amended, regarding conservation and management of fishery resources.

The Coastal Household Telephone Survey (CHTS) utilizes a computer-assisted, random-digit-dialing (RDD) approach to contact full-time, residential households located in coastal counties and collect information about recent recreational fishing activity. Respondents are asked to recall the number of recreational saltwater fishing trips taken during a specific time period and to provide details about each fishing trip. Data collected from the CHTS are used to estimate the total number of recreational saltwater fishing trips by residents of coastal counties. CHTS estimates are combined with estimates derived from an independent survey, the Access-Point Angler Intercept Survey (APAIS), to estimate total, state-level fishing effort and catch, by species. These estimates are used in the development, implementation, and monitoring of fishery management programs by the National Marine Fisheries Service, regional fishery management councils, interstate marine fisheries commissions, and state fishery agencies.

II. Method of Collection

Data will be collected through a random-digit-dialing telephone survey of coastal county households.

III. Data

OMB Control Number: 0648-XXXX.

Form Number: None.

Type of Review: Regular submission (request for a new information collection).

Affected Public: Individuals or households.

Estimated Number of Respondents: 214,398.

Estimated Time per Response: 2 minutes per household.

Estimated Total Annual Burden Hours: 7,147.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 27, 2014
Gwellnar Banks,
Management Analyst, Office of the Chief Information Officer.

[FR Doc. 2014-12592 Filed 5-30-14; 8:45 am]

BILLING CODE 3510-22-P